FEDERAL COMMUNICATIONS COMMISSION

47 CFR Parts 21, 73, 74, 76 and 78

[DA 02-577]

Establishment of the Media Bureau and Other Organizational Changes

AGENCY: Federal Communications Commission.

ACTION: Final rule.

SUMMARY: This document amends the Commission's rules to reflect the reorganization of the existing Cable Services and Mass Media Bureaus into a new Media Bureau. The Commission also transfers the Multipoint Distribution and Instructional Television Fixed Services from the Mass Media Bureau to the Wireless Telecommunications Bureau. This rule will promote a more efficient and effective organizational structure.

DATES: Effective March 25, 2002.

FOR FURTHER INFORMATION CONTACT: Susan Mort, 202-418-1043.

SUPPLEMENTARY INFORMATION: To promote a more efficient and effective organizational structure, the Commission has concluded that the proper dispatch of its business and the public interest will best be served by consolidating the existing Cable Services and Mass Media Bureaus into a Media Bureau. In the Order adopted March 11, 2002 and released March 14, 2002, we amend the Commission's Rules to make conforming changes reflecting the name of the new Bureau. The Order also transfers the Multipoint Distribution and Instructional Television Fixed Services from the Mass Media Bureau to the Wireless Telecommunications Bureau.

Authority for the adoption of the foregoing revisions is contained in sections 4(i), 5(b), 5(c) and 303(r) of the Communications Act of 1934, as amended, 47 U.S.C. 154(i), 155(b), 155(c) and 303(r).

The amendments adopted herein pertain to agency organization, procedure and practice. Consequently, the notice and comment provision of the Administrative Procedure Act contained in 5 U.S.C. 553(b) is inapplicable.

Accordingly, it is ordered that parts 21, 73, 74, 76 and 78 of the Commission's rules, set forth in Title 47 of the Code of Federal Regulations, are amended effective March 25, 2002.

List of Subjects

47 CFR Part 21

Communications common carriers, Radio.

47 CFR Part 73

Radio, Television.

47 CFR Part 74

Radio, Television.

47 CFR Part 76

Cable television.

47 CFR Part 78

Cable television, Radio.

Federal Communications Commission.
William F. Caton,
Acting Secretary.

For the reasons stated in the preamble, The Federal Communications Commission amends 47 CFR parts 21, 73, 74, 76 as follows:

PART 21—DOMESTIC PUBLIC FIXED RADIO SERVICES

1. The authority citation for part 21 continues to read as follows:

Authority: Secs. 1, 2, 4, 201-205, 208, 215, 218, 303, 307, 313, 403, 404, 410, 602, 48 Stat. as amended, 1064, 1066, 1070-1073, 1076, 1077, 1080, 1082, 1083, 1087, 1094, 1098, 1102; 47 U.S.C. 151, 154, 201-205, 208, 215, 218, 303, 307, 313, 314, 403, 404, 602; 47 U.S.C. 552, 554.

2. Section 21.6 is amended by revising paragraph (c) to read as follows:

§ 21.6 Filing of applications, fees, and number of copies.

* * * * *

(c) All correspondence or amendments concerning a submitted application shall clearly identify the radio service, the name of the applicant, station location, and the Commission file number (if known) or station call sign of the application involved. All correspondence or amendments concerning a submitted application may be sent directly to the Wireless Telecommunications Bureau.

* * * * *

3. Section 21.303 is amended by revising paragraphs (a), (b) and (c) to read as follows:

§ 21.303 Discontinuance, reduction or impairment of service.

(a) If the public communication service provided by a station subject to this rule part is involuntarily discontinued, reduced or impaired for a period exceeding 48 hours, the station licensee shall promptly give notification thereof in writing to the Wireless Telecommunications Bureau at Washington, DC 20554. In every such case, the licensee shall furnish full particulars as to the reasons for such discontinuance, reduction or impairment of service, including a statement as to when normal service is expected to be resumed. When normal service is resumed, prompt notification thereof shall be given in writing to the Wireless Telecommunications Bureau at Federal Communications Commission, Washington, DC 20554.

(b) No station licensee subject to title II of the Communications Act of 1934, as amended, shall voluntarily discontinue, reduce or impair public communication service to a community or part of a community without obtaining prior authorization from the Commission pursuant to the procedures set forth in part 63 of this chapter or complying with the requirements set forth at § 21.910. In the event that permanent discontinuance of service is authorized by the Commission, the station licensee shall promptly send the station license for cancellation to the Wireless Telecommunications Bureau at Federal Communications Commission, Washington, DC 20554, except that station licenses need not be surrendered for cancellation if the discontinuance is a result of a change of status by a Multipoint Distribution Service licensee from common carrier to non-common carrier pursuant to § 21.910.

(c) Any station licensee, not subject to title II of the Communications Act of 1934, as amended, who voluntarily discontinues, reduces or impairs public communication service to a community or a part of a community shall give written notification to the Commission within 7 days thereof. In the event of permanent discontinuance of service, the station licensee shall promptly send the station license for cancellation to the Wireless Telecommunications Bureau at Federal Communications Commission, Washington, DC 20554, except that Multipoint Distribution Service station licenses need not be surrendered for cancellation if the discontinuance is a result of a change of status by a Multipoint Distribution Service licensee from non-common carrier to common carrier.

* * * * *

PART 73—RADIO BROADCAST SERVICES

4. The authority citation for part 73 continues to read as follows:

Authority: 47 U.S.C. 154, 303, 334 and 336.

5. Section 73.45 is amended by revising paragraph (c)(2) to read as follows:

§ 73.45 AM antenna systems.

* * * * *

(c) * * *

(2) Whenever AM stations use direct reading power meters pursuant to § 73.51, a letter notification to the FCC in Washington, DC, Attention: Audio Division, Media Bureau, must be filed in accordance with § 73.54(e).

6. Section 73.54 is amended by revising paragraph (c) introductory text to read as follows:

§ 73.54 Antenna resistance and reactance measurements.

* * * * *

(c) A letter of notification must be filed with the FCC in Washington, DC, Attention: Audio Division, Media Bureau, when determining power by the direct method pursuant to § 73.51. The letter must specify the antenna or common point resistance at the operating frequency. The following information must also be kept on file at the station:

* * * * *

7. Section 73.58 is amended by revising paragraph (e) to read as follows:

§ 73.58 Indicating instruments.

* * * * *

(e) If conditions beyond the control of the licensee prevent the restoration of the meter to service within the above allowed period, information requested in accordance with § 73.3549 may be filed by letter with the FCC in Washington, DC, Attention: Audio Division, Media Bureau, to request additional time as may be required to complete repairs of the defective instrument.

8. Section 73.68 is amended by revising paragraphs (b), including the Note to paragraph (b), and (d)(1) to read as follows:

§ 73.68 Sampling systems for antenna monitors.

* * * * *

(b) A station having an antenna sampling system constructed according to the specifications given in paragraph (a) of this section may obtain approval of that system by submitting an informal letter request to the FCC in Washington, DC, Attention: Audio Division, Media Bureau. The request for approval, signed by the licensee or authorized representative, must contain sufficient information to show that the sampling system is in compliance with all requirements of paragraph (a) of this section.

Note to paragraph (b): A public notice dated December 9, 1985 giving additional information on approval of antenna sampling systems is available through the Internet at http://www.fcc.gov/mb/audio/decdoc/letter/1985-12-09-sample.html.

* * * * *

(d) * * *

(1) Special Temporary Authority (see § 73.1635) shall be requested and obtained from the Commission's Audio Division, Media Bureau in Washington to operate with parameters at variance with licensed values pending issuance of a modified license specifying parameters subsequent to modification or replacement of components.

* * * * *

9. Section 73.69 is amended by revising paragraphs (c) and (d) (5) to read as follows:

§ 73.69 Antenna monitors.

* * * * *

(c) If conditions beyond the control of the licensee prevent the restoration of the monitor to service within the allowed period, an informal letter request in accordance with § 73.3549 of the Commission's rules must be filed with the FCC, Attention: Audio Division, Media Bureau in Washington, DC for such additional time as may be required to complete repairs of the defective instrument.

(d) * * *

(5) An informal letter request for modification of license shall be submitted to the FCC, Attention: Audio Division, Media Bureau in Washington, DC within 30 days of the date of monitor replacement. Such request shall specify the make, type, and serial number of the replacement monitor, phase and sample current indications, and other data obtained pursuant to this paragraph (d).

* * * * *

10. Section 73.258 is amended by revising paragraph (d) to read as follows:

§ 73.258 Indicating instruments.

* * * * *

(d) If conditions beyond the control of the licensee prevent the restoration of the meter to service within the above allowed period, an informal letter request in accordance with § 73.3549 may be filed with the FCC, Attention: Audio Division, Media Bureau, in Washington, DC for such additional time as may be required to complete repairs of the defective instrument.

11. Section 73.561 is amended by revising paragraphs (c) and (d) and redesignating Notes 1 and 2 as Notes 1 and 2 to § 73.561 and revising them to read as follows:

§ 73.561 Operating schedule; time sharing.

* * * * *

(c) A departure from the regular schedule set forth in a time-sharing agreement will be permitted only in cases where a written agreement to that effect is reduced to writing, is signed by the licensees of the stations affected thereby, and is filed in triplicate by each licensee with the Commission, Attention: Audio Division, Media Bureau, prior to the time of the proposed change. If time is of the essence, the actual departure in operating schedule may precede the actual filing of the written agreement, provided that appropriate notice is sent to the Commission in Washington, DC, Attention: Audio Division, Media Bureau.

(d) In the event that causes beyond the control of a permittee or licensee make it impossible to adhere to the operating schedule in paragraph (a) or (b) of this section or to continue operating, the station may limit or discontinue operation for a period not exceeding 30 days without further authority from the Commission provided that notification is sent to the Commission in Washington, DC, Attention: Audio Division, Media Bureau, no later than the 10th day of limited or discontinued operation. During such period, the permittee shall continue to adhere to the requirements of the station license pertaining to the lighting of antenna structures. In the event normal operation is restored prior to the expiration of the 30 day period, the permittee or licensee will notify the FCC, Attention: Audio Division of the date that normal operations resumed. If causes beyond the control of the permittee or licensee make it impossible to comply within the allowed period, Special Temporary Authority (see § 73.1635) must be requested to remain silent for such additional time as deemed necessary. The license of a broadcasting station that fails to transmit broadcast signals for any consecutive 12 month period expires as a matter of law at the end of that period, notwithstanding any provision, term, or condition of license to the contrary.

Note 1 to § 73.561: For allocations purposes, both (all) stations sharing time will be treated as unlimited time stations.

Note 2 to § 73.561: See §§ 73.1705, 73.1715, and 73.1740.

* * * * *

12. Section 73.607 is amended by revising paragraph (b) to read as follows:

§ 73.607 Availability of channels.

* * * * *

(b) Notwithstanding paragraph (a) of this section, an application may be filed for a channel or community not listed in the TV Table of Allotments if it is consistent with the rules and policies established in the Third Report and Order in WT Docket 99-168 (FCC 01-25), adopted January 18, 2001. Where such a request is approved, the Media Bureau will change the Table of Allotments to reflect that approval.

13. Section 73.622 is amended by revising paragraph (c)(2) to read as follows:

§ 73.622 Digital television table of allotments.

* * * * *

(c) * * *

(2) Notwithstanding paragraph (c)(1) of this section, an application may be filed for a channel or community not listed in the DTV Table of Allotments if it is consistent with the rules and policies established in the Third Report and Order in WT Docket 99-168 (FCC 01-25), adopted January 18, 2001. Where such a request is approved, the Media Bureau will change the DTV Table of Allotments to reflect that approval.

* * * * *

14. Section 73.624 is amended by revising paragraph (d)(3)(i) to read as follows:

§ 73.624 Digital television broadcast stations.

* * * * *

(d) * * *

(3) * * * (i) Authority is delegated to the Chief, Media Bureau to grant an extension of time of up to six months beyond the relevant construction deadline specified in paragraph (d)(1) of this section upon demonstration by the DTV licensee or permittee that failure to meet that construction deadline is due to circumstances that are either unforeseeable or beyond the licensee's control where the licensee has taken all reasonable steps to resolve the problem expeditiously.

* * * * *

15. Section 73.872 is amended by revising paragraph (c)(2) to read as follows:

§ 73.872 Selection procedure for mutually exclusive LPFM applications.

* * * * *

(c) * * *

(2) Where a station is licensed pursuant to a time-sharing proposal, a change of the regular schedule set forth therein will be permitted only where a written agreement signed by each time-sharing licensee and complying with requirements in paragraphs (c)(1)(i) through (iii) of this section is filed with the Commission, Attention: Audio Division, Media Bureau, prior to the date of the change.

* * * * *

16. Section 73.1125 is amended by revising paragraph (d)(2) to read as follows:

§ 73.1125 Station main studio location.

* * * * *

(d) * * *

(2) Written authority to locate a main studio outside the locations specified in paragraph (a) or (c) of this section for the first time must be obtained from the Audio Division, Media Bureau for AM and FM stations, or the Video Division for TV and Class A television stations before the studio may be moved to that location. Where the main studio is already authorized at a location outside those specified in paragraph (a) or (c) of this section, and the licensee or permittee desires to specify a new location also located outside those locations, written authority must also be received from the Commission prior to the relocation of the main studio. Authority for these changes may be requested by filing a letter with an explanation of the proposed changes with the appropriate division. Licensees or permittees should also be aware that the filing of such a letter request does not imply approval of the relocation request, because each request is addressed on a case-by-case basis. A filing fee is required for commercial AM, FM, TV or Class A TV licensees or permittees filing a letter request under the section (see § 1.1104 of this chapter).

* * * * *

17. Section 73.1350 is amended by revising paragraph (g) to read as follows:

§ 73.1350 Transmission system operation.

* * * * *

(g) Whenever a transmission system control point is established at a location other than the main studio or transmitter, a letter of notification of that location must be sent to the FCC in Washington, DC, Attention: Audio Division (radio) or Video Division (television), Media Bureau, within 3 days of the initial use of that point. The letter should include a list of all control points in use, for clarity. This notification is not required if responsible station personnel can be contacted at the transmitter or studio site during hours of operation.

* * * * *

18. Section 73.1560 is amended by revising paragraph (d) to read as follows:

§ 73.1560 Operating power and mode tolerances.

* * * * *

(d) Reduced power operation. In the event it becomes technically impossible to operate at authorized power, a broadcast station may operate at reduced power for a period of not more than 30 days without specific authority from the FCC. If operation at reduced power will exceed 10 consecutive days, notification must be made to the FCC in Washington, DC, Attention: Audio Division (radio) or Video Division (television), Media Bureau, not later than the 10th day of the lower power operation. In the event that normal power is restored within the 30 day period, the licensee must notify the FCC of the date that normal operation was restored. If causes beyond the control of the licensee prevent restoration of the authorized power within 30 days, a request for Special Temporary Authority (see § 73.1635) must be made to the FCC in Washington, DC for additional time as may be necessary.

19. Section 73.1680 is amended by revising paragraph (b) introductory text to read as follows:

§ 73.1680 Emergency antennas.

* * * * *

(b) Prior authority from the FCC is not required by licensees and permittees to erect and commence operations using an emergency antenna to restore program service to the public. However, an informal letter request to continue operation with the emergency antenna must be made within 24 hours to the FCC in Washington, DC, Attention: Audio Division (radio) or Video Division (television), Media Bureau, within 24 hours after commencement of its use. The request is to include a description of the damage to the authorized antenna, a description of the emergency antenna, and the station operating power with the emergency antenna.

* * * * *

20. Section 73.1750 is revised to read as follows:

§ 73.1750 Discontinuance of operation.

The licensee of each station shall notify by letter the FCC in Washington, DC, Attention: Audio Division (radio) or Video Division (television), Media Bureau, of the permanent discontinuance of operation at least two days before operation is discontinued. Immediately after discontinuance of operation, the licensee shall forward the station license and other instruments of authorization to the FCC, Attention: Audio Division (radio) or Video Division (television), Media Bureau, for cancellation. The license of any station that fails to transmit broadcast signals for any consecutive 12 month period expires as a matter of law at the end of that period, notwithstanding any provision, term, or condition of the license to the contrary. If a licensee surrenders its license pursuant to an interference reduction agreement, and its surrender is contingent on the grant of another application, the licensee must identify in its notification the contingencies involved.

21. Section 73.3544 is amended by revising paragraph (b) introductory text to read as follows:

§ 73.3544 Application to obtain a modified station license.

* * * * *

(b) An informal application, see § 73.3511(b), may be filed with the FCC in Washington, DC, Attention: Audio Division (radio) or Video Services Division (television), Media Bureau, to cover the following changes:

* * * * *

22. Section 73.3549 is revised to read as follows:

§ 73.3549 Requests for extension of time to operate without required monitors, indicating instruments, and EAS encoders and decoders.

Requests for extension of authority to operate without required monitors, transmission system indicating instruments, or encoders and decoders for monitoring and generating the EAS codes and Attention Signal should be made to the FCC in Washington, DC, Attention: Audio Division (radio) or Video Division (television), Media Bureau. Such requests must contain information as to when and what steps were taken to repair or replace the defective equipment and a brief description of the alternative procedures being used while the equipment is out of service.

23. Section 73.3562 is revised to read as follows:

§ 73.3562 Staff consideration of applications not requiring action by the Commission.

Those applications which do not require action by the Commission but which, pursuant to the delegations of authority set forth in subpart B of part 0 of this chapter, may be acted upon by the Chief, Media Bureau, are forwarded to the Media Bureau for necessary action. If the application is granted, the formal authorization is issued. In any case where it is recommended that the application be set for hearing, where a novel question of policy is presented, or where the Chief, Media Bureau desires instructions from the Commission, the matter is placed on the Commission agenda.

24. Section 73.3564 is amended by revising paragraph (a)(1) to read as follows:

§ 73.3564 Acceptance of applications.

(a)(1) Applications tendered for filing are dated upon receipt and then forwarded to the Media Bureau, where an administrative examination is made to ascertain whether the applications are complete. Except for applications for minor modifications of facilities in the non-reserved FM band, as defined in § 73.3573(a)(2), long form applications subject to the provisions of § 73.5005 found to be complete or substantially complete are accepted for filing and are given file numbers. In the case of minor defects as to completeness, a deficiency letter will be issued and the applicant will be required to supply the missing or corrective information. Applications that are not substantially complete will not be considered and will be returned to the applicant.

* * * * *

25. Section 73.3617 is revised to read as follows:

§ 73.3617 Information available on the Internet.

The Media Bureau and each of its Divisions provide information on the Internet regarding rules and policies, pending and completed rulemakings, and pending applications. These sites also include copies of public notices and texts of recent decisions. The Media Bureau's address is http://www.fcc.gov/mb/; the Audio Division's address is http:// www.fcc.gov/mmb/audio; the Video Division's address is http:// www.fcc.gov/mb/video; the Policy Division's address is http:// www.fcc.gov/mb/policy; the Engineering Division's address is http://www.fcc.gov/mb/engineering; and the Industry Analysis Division's address is http://www.fcc.gov/mb/industry_analysis.

PART 74—EXPERIMENTAL RADIO, AUXILIARY, SPECIAL BROADCAST AND OTHER PROGRAM DISTRIBUTIONAL SERVICES

26. The authority citation for part 74 continues to read as follows:

Authority: 47 U.S.C. 154, 303, 307, 336(f), and 554.

27. Section 74.734 is amended by revising paragraph (a)(4) to read as follows:

§ 74.734 Attended and unattended operation.

(a) * * *

(4) A letter notification must be filed with the FCC in Washington, DC, Attention: Video Division, Media Bureau, providing the name, address, and telephone number of a person or persons who may be called to secure suspension of operation of the transmitter promptly should such action be deemed necessary by the FCC. Such information shall be kept current by the licensee.

* * * * *

28. Section 74.751 is amended by revising paragraph (c) to read as follows:

§ 74.751 Modification of transmission systems.

* * * * *

(c) Other equipment changes not specifically referred to in paragraphs (a) and (b) of this section may be made at the discretion of the licensee, provided that the FCC in Washington, DC, Attention: Video Division, Media Bureau, is notified in writing upon the completion of such changes.

* * * * *

29. Section 74.763 is amended by revising paragraph (b) to read as follows:

§ 74.763 Time of operation.

* * * * *

(b) In the event that causes beyond the control of the low power TV or TV translator station licensee make it impossible to continue operating, the licensee may discontinue operation for a period of not more than 30 days without further authority from the FCC. Notification must be sent to the FCC in Washington, DC, Attention: Video Division, Media Bureau, not later than the 10th day of discontinued operation. During such period, the licensee shall continue to adhere to the requirements in the station license pertaining to the lighting of antenna structures. In the event normal operation is restored prior to the expiration of the 30 day period, the FCC in Washington, DC, Attention: Video Division, Media Bureau, shall be notified in writing of the date normal operations resumed. If causes beyond the control of the licensee make it impossible to comply within the allowed period, a request for Special Temporary Authority (see § 73.1635 of this chapter) shall be made to the FCC no later than the 30th day for such additional time as may be deemed necessary.

* * * * *

30. Section 74.784 is amended by revising paragraph (b) to read as follows:

§ 74.784 Rebroadcasts.

* * * * *

(b) The licensee of a low power TV or TV translator station shall not rebroadcast the programs of any other TV broadcast station or other station authorized under the provisions of this Subpart without obtaining prior consent of the station whose signals or programs are proposed to be retransmitted. The FCC, Attention: Video Division, Media Bureau, shall be notified of the call letters of each station rebroadcast, and the licensee of the low power TV or TV broadcast translator station shall certify it has obtained written consent from the licensee of the station whose programs are being retransmitted.

* * * * *

31. Section 74.931 is amended by revising the first paragraph (k) and redesignating the second paragraph (k) as paragraph (l) to read as follows:

§ 74.931 Purpose and permissible service.

* * * * *

(k) The provisions of paragraph (h) of this section will not apply to ITFS excess capacity leased directly or indirectly to cable operators or affiliates to provide locally-produced programming to cable headends. Locally-produced programming is programming produced in or near the cable operator's franchise area and not broadcast on a television station available within that franchise area. A cable operator or affiliate will be permitted to lease ITFS excess capacity equivalent to one MDS channel within 32 km (20 miles) of the cable television franchise area or service area for this purpose, and, within 32 km (20 miles) of the cable television franchise area or service area, no more ITFS excess capacity than the equivalent of one MDS channel may be used by a cable television company or affiliate pursuant to this paragraph (k). The licensee for a cable operator providing local programming pursuant to a lease must include in a notice filed with the Wireless Telecommunications Bureau a cover letter explicitly identifying its lessee as a local cable operator or affiliate and stating that the lease was executed to facilitate the provision of local programming. The first lease notification for an MDS or ITFS channel in an area filed with the Commission will be entitled to the exemption. The limitations on the equivalent of one MDS channel per party and per area include any cable/ITFS operations grandfathered pursuant to paragraph (l) of this section or any cable/MDS operations grandfathered pursuant to § 21.912(f) of this chapter. Local programming service pursuant to a lease must be provided within one year of the date of the lease or one year of the grant of the licensee's application for the leased channel(s), whichever is later.

* * * * *

32. Section 74.1234 is amended by revising paragraph (a)(4) to read as follows:

§ 74.1234 Unattended operation.

(a) * * *

(4) The FCC in Washington, DC, Attention: Audio Division, Media Bureau, shall be supplied by letter with the name, address, and telephone number of a person or persons who may be contacted to secure suspension of operation of the translator promptly should such action be deemed necessary by the Commission. Such information shall be kept current by the licensee.

* * * * *

33. Section 74.1290 is revised to read as follows:

§ 74.1290 FM translator and booster station information available on the internet.

The Media Bureau's Audio Division provides information on the Internet regarding FM translator and booster stations, rules, and policies at http://www.fcc.gov/mb/audio.

PART 76—MULTICHANNEL VIDEO AND CABLE TELEVISION SERVICE

34. The authority citation for part 76 continues to read as follows:

Authority: 47 U.S.C. 151, 152, 153, 154, 301, 302, 303, 303a, 307, 308, 309, 312, 315, 317, 325, 503, 521, 522, 531, 532, 534, 535, 536, 537, 543, 544, 544a, 545, 548, 549, 552, 554, 556, 558, 560, 561, 571, 572, 573.

35. Section 76.7 is amended by revising paragraph (g)(3) to read as follows:

§ 76.7 General special relief, waiver, enforcement, complaint, show cause, forfeiture, and declaratory ruling procedures.

* * * * *

(g) * * *

(3) Unless otherwise directed by the Commission, or upon motion by the Media Bureau Chief, the Media Bureau Chief shall not be deemed to be a party to a proceeding designated for a hearing before an administrative law judge pursuant to this paragraph (g).

* * * * *

36. Section 76.501 is amended by revising Note 5 to read as follows:

§ 76.501 Cross-ownership.

* * * * *

Note 5 to § 76.501: Certifications pursuant to this section and these notes shall be sent to the attention of the Media Bureau, Federal Communications Commission, 445 12th Street, SW., Washington, DC 20554.

* * * * *

37. Section 76.503 is amended by revising Note 1 to read as follows:

§ 76.503 National subscriber limits.

* * * * *

Note 1 to § 76.503: Certifications made under this section shall be sent to the attention of the Media Bureau, Federal Communications Commission, 445 12th Street, SW., Washington, DC 20554.

* * * * *

38. Section 76.630 is amended by revising paragraph (a) to read as follows:

§ 76.630 Compatibility with consumer electronics equipment.

(a) Cable system operators shall not scramble or otherwise encrypt signals carried on the basic service tier. Requests for waivers of this prohibition must demonstrate either a substantial problem with theft of basic tier service or a strong need to scramble basic signals for other reasons. As part of this showing, cable operators are required to notify subscribers by mail of waiver requests. The notice to subscribers must be mailed no later than thirty calendar days from the date the request waiver was filed with the Commission, and cable operators must inform the Commission in writing, as soon as possible, of that notification date. The notification to subscribers must state:

On (date of waiver request was filed with the Commission), (cable operator's name) filed with the Federal Communications Commission a request for waiver of the rule prohibiting scrambling of channels on the basic tier of service. 47 CFR 76.630(a). The request for waiver states (a brief summary of the waiver request). A copy of the request for waiver is on file for public inspection at (the address of the cable operator's local place of business).

Individuals who wish to comment on this request for waiver should mail comments to the Federal Communications Commission by no later than 30 days from (the date the notification was mailed to subscribers). Those comments should be addressed to the: Federal Communications Commission, Media Bureau, Washington, DC 20554, and should include the name of the cable operator to whom the comments are applicable. Individuals should also send a copy of their comments to (the cable operator at its local place of business). Cable operators may file comments in reply no later than 7 days from the date subscriber comments must be filed.

* * * * *

39. Section 76.934 is amended by revising paragraph (h)(5)(iii) to read as follows:

§ 76.934 Small systems and small cable companies.

* * * * *

(h) * * *

(5) * * *

(iii) A system may file with the Media Bureau an interlocutory appeal from any decision by the franchising authority requesting information from the system or tolling the effective date of a system's proposed rates. The appeal may be made by an informal letter to the Chief of the Media Bureau, served on the franchising authority. The franchising authority must respond within seven days of its receipt of the appeal and shall serve the operator with its response. The operator shall have four days from its receipt of the response in which to file a reply, if desired. If the maximum rate established on Form 1230 does not exceed $1.24 per channel, the burden shall be on the franchising authority to show the reasonableness of its order. If the maximum rate established on Form 1230 exceeds $1.24 per channel, the burden shall be on the operator to show the unreasonableness of the order.

* * * * *

40. Section 76.1003 is amended by revising paragraph (h)(3)(iii)(C)(2) to read as follows:

§ 76.1003 Program access proceedings.

* * * * *

(h) * * *

(3) * * *

(iii)* * *

(C)* * *

(2) Issues concerning the amount of damages may be designated by the Chief, Media Bureau for hearing before, or, if the parties agree, submitted for mediation to, a Commission Administrative Law Judge.

* * * * *

41. Section 76.1502 is amended by revising paragraphs (d)(2) and (e)(2) to read as follows:

§ 76.1502 Certification.

* * * * *

(d)* * *

(2) Parties are required to attach a cover sheet to the filing indicating that the submission is an open video system certification application. The only wording on this cover sheet shall be “Open Video System Certification Application” and “Attention: Media Bureau.” This wording shall be located in the center of the page and should be in letters at least ½ inch in size. Parties shall also include the words “open video systems” on their mailing envelope.

(e)* * *

(2) Parties wishing to respond to a FCC Form 1275 filing must submit comments or oppositions with the Office of the Secretary and the Bureau Chief, Media Bureau. Comments will not be considered properly filed unless filed with both of these Offices. Parties are required to attach a cover sheet to the filing indicating that the submission is a pleading related to an open video system application, the only wording on this cover sheet shall be “Open Video System Certification Application Comments.” This wording shall be located in the center of the page and should be in letters at least 1/2 inch in size. Parties shall also include the words “open video systems” on their mailing envelopes.

* * * * *

42. Section 76.1503 is amended by revising paragraph (b)(1) introductory text to read as follows:

§ 76.1503 Carriage of video programming providers on open video systems.

* * * * *

(b) * * *

(1) Notification. An open video system operator shall file with the Secretary of the Federal Communications Commission a “Notice of Intent” to establish an open video system, which the Commission will release in a Public Notice. Parties are required to attach a cover sheet to the filing indicating that the submission is an Open Video System Notice of Intent. The only wording on this cover sheet shall be “Open Video System Notice of Intent” and “Attention: Media Bureau.” This wording shall be located in the center of the page and should be in letters at least ½ inch in size. Parties shall also include the words “open video systems” on their mailing envelopes. Parties must submit copies of the Notice of Intent with the Office of the Secretary and the Bureau Chief, Media Bureau. The Notice of Intent shall include the following information:

* * * * *

PART 78—CABLE TELEVISION RELAY SERVICE

43. The authority citation for part 78 continues to read as follows:

Authority: Secs. 2, 3, 4, 301, 303, 307, 308, 309, 48 Stat., as amended, 1064, 1065, 1066, 1081, 1082, 1083, 1084, 1085; 47 U.S.C. 152, 153, 154, 301, 303, 307, 308, 309.

44. Section 78.20 is amended by revising paragraph (a) to read as follows:

§ 78.20 Acceptance of applications; public notice.

(a) Applications which are tendered for filing in Washington, DC, are dated upon receipt and then forwarded to the Media Bureau where an administrative examination is made to ascertain whether the applications are complete. Applications found to be complete or substantially complete, are accepted for filing and are given a file number. In case of minor defects as to completeness, the applicant will be required to supply the missing information. Applications which are not substantially complete will be returned to the applicant. Applications requiring fees as set forth at part 1, subpart G, of this chapter must be filed in accordance with § 0.401(b) of this chapter.

* * * * *

[FR Doc. 02-6353 Filed 3-20-02; 8:45 am]

BILLING CODE 6712-01-P